FEDERAL COMMUNICATIONS COMMISSION

47 CFR Part 73

[DA 01-347; MM Docket No. 00-171; RM-9926]

Radio Broadcasting Services; Wells and Woodville, TX

AGENCY: Federal Communications Commission.

ACTION: Final rule.

SUMMARY: This document reallots Channel 234C2 from Woodville, Texas, to Wells, Texas, and modifies the license for Station KVLL to specify operation on Channel 234C2 at Wells in response to a petition filed by Radio Woodville, Inc. See 65 FR 59162, October 4, 2000. The coordinates for Channel 234C2 at Wells are 31-12-37 and 94-57-15.

DATES: Effective March 26, 2001.

FOR FURTHER INFORMATION CONTACT: Kathleen Scheuerle, Mass Media Bureau, (202) 418-2180.

SUPPLEMENTARY INFORMATION: This is a summary of the Commission's Report and Order, MM Docket No. 00-171, adopted January 31, 2001, and released February 9, 2001. The full text of this Commission decision is available for inspection and copying during normal business hours in the Commission's Reference Center, 445 12th Street, SW., Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

47 CFR PART 73—[AMENDED]

1. The authority citation for Part 73 continues to read as follows:

Authority: 47 U.S.C. 154, 303, 334 and 336.

§ 73.202 [Amended]

2. Section 73.202(b), the Table of FM Allotments under Texas, is amended by removing Woodville, Channel 234C2 and adding Wells, Channel 234C2.

Federal Communications Commission.
John A. Karousos,
Chief, Allocations Branch, Policy and Rules Division, Mass Media Bureau.

[FR Doc. 01-4321 Filed 2-21-01; 8:45 am]

BILLING CODE 6712-01-P